MORRIS K. UDALL AND STEWART L. UDALL FOUNDATION

Sunshine Act Meetings

TIME AND DATE: 9:00 a.m. to 5:00 p.m., Tuesday, November 12, 2013. (This meeting has been rescheduled from October 10, 2013, due to the lapse in appropriations and the federal government shutdown, and the Matters To Be Considered section has been updated.)

PLACE: The offices of the Morris K. Udall and Stewart L. Udall Foundation, 130 South Scott Avenue, Tucson, AZ 85701.

STATUS: This meeting of the Board of Trustees will be open to the public, unless it is necessary for the Board to consider items in executive session.

MATTERS TO BE CONSIDERED: (1) Minutes of the June 10-11, 2013, Board of Trustees Meeting and resolution conferring upon David J. Hayes the position of Trustee Emeritus of the Morris K. Udall and Stewart L. Udall Foundation; (2) Appropriations Update; (3) Financial and Management Report and resolution to ratify the Executive Committee vote approving the new Udall Foundation Senior Management structure; (4) Ethics Training Update and General Counsel's Report; (5) U.S. Institute for Environmental Conflict Resolution Report; (6) Education Programs Report; (7) Udall Center for Studies in Public Policy, Native Nations Institute, and Udall Archives Report 6, Work Plan and resolutions regarding allocation and transfer of funds; and (8) personnel matters.

PORTIONS OPEN TO THE PUBLIC: All agenda items except as noted below.

PORTION CLOSED TO THE PUBLIC: Executive session to review personnel matters.

CONTACT PERSON FOR MORE INFORMATION: Philip J. Lemanski, Executive Director, 130 South Scott Avenue, Tucson, AZ 85701, (520) 901-8500.

Dated: October 25, 2013.
Philip J. Lemanski,
Executive Director, Morris K. Udall and Stewart L. Udall Foundation, and Federal Register Liaison Officer.

[FR Doc. 2013-25866 Filed 11-1-13; 8:45 am]

BILLING CODE 6820-FN-M